LEGAL SERVICES CORPORATION

Sunshine Act Meeting of the Board of Directors Search Committee for LSC President and Inspector General

Time and Date: The Board of Directors' Search Committee for LSC President and Inspector General will meet on October 28, 2003. The meeting will begin at 9 a.m. and continue until conclusion of the Committee's agenda.

Location: Strickland Brockington Lewis, LLP, Midtown Proscenium—Suite 2000, 1170 Peachtree Street NE, Atlanta, GA 30309.

Status of Meeting: Open, except that a portion of the meeting may be closed pursuant to a vote of the Board of Directors authorizing the Committee to hold an executive session. The closing is authorized by the relevant provisions of the Government in the Sunshine Act [5 U.S.C. 552b(c)(2), (4) & (6)] and the corresponding provisions of the Legal Services Corporation's implementing regulation [45 CFR 1622.5(a), (c) & (e)]. A copy of the General Counsel's Certification that the closing is authorized by law will be available upon request.

Matters to be Considered:

Open Session

1. Approval of agenda.

2. Approval of the minutes of the Committee's meeting of September 15, 2003.

3. Consider and act on other business.

Closed Session

4. Review of resumes and other materials submitted by applicants for the position of LSC President.

5. Consider and act on the selection of applicants for personal interviews by the Committee.

Open Session

6. Consider and act on adjournment of meeting.

FOR FURTHER INFORMATION CONTACT: Victor M. Fortuno, Vice President for Legal Affairs, General Counsel and Corporate Secretary, at (202) 295-1500.

Special Needs: Upon request, meeting notices will be made available in alternate formats to accommodate visual and hearing impairments. Individuals who have a disability and need an accommodation to attend the meeting may notify Elizabeth Cushing at (202) 295-1500.

Dated: October 20, 2003.
Victor M. Fortuno,
Vice President for Legal Affairs, General Counsel and Corporate Secretary.

[FR Doc. 03-26820 Filed 10-20-03; 4:39 pm]

BILLING CODE 7050-01-P